COMMITTEE FOR PURCHASE FROM PEOPLE WHO ARE BLIND OR SEVERELY DISABLED

Procurement List; Deletions

AGENCY: Committee for Purchase from People Who Are Blind or Severely Disabled.

ACTION: Deletions from Procurement List.

SUMMARY: This action deletes from the Procurement List products previously furnished by such agencies.

EFFECTIVE DATE: March 26, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Deletions

I certify that the following action will not have a significant impact on a substantial number of small entities. The major factors considered for this certification were:

1. The action may not result in any additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

After consideration of the relevant matter presented, the committee has determined that the products listed below are no longer suitable for procurement by the Federal Government under 41 U.S.C. 46-48c and 41 CFR 51-2.4.

Accordingly, the following products are deleted from the Procurement List:

Products

Product/NSN: Marker, Tube Type, Fine Tip:

7520-00-051-5031

7520-00-051-5033

7520-00-051-5035

7520-00-051-5036

7520-00-116-2886

7520-00-116-2887

7520-00-116-2888

7520-00-116-2889

7520-00-935-0979

7520-00-935-0980

7520-00-935-0981

7520-00-935-0982

NPA: Winston-Salem Industries for the Blind, Winston-Salem, North Carolina.

Contract Activity: Office Supplies & Paper Products Acquisition Center, New York, NY.

Product/NSN: Pen, Essential LVX Translucent and refills:

7510-01-454-1174

7510-01-454-1178

7510-01-454-1185

7510-01-454-1188

NPA: Industries for the Blind, Inc., Milwaukee, Wisconsin.

Contract Activity: Office Supplies & Paper Products Acquisition Center, New York, NY.

Product/NSN: Pen, Executive Fountain and refills:

7520-01-451-2277 (Burgundy Barrel with 2 refills)

NPA: Industries for the Blind, Inc., Milwaukee, Wisconsin.

Contract Activity: Office Supplies & Paper Products Acquisition Center, New York, NY.

Product/NSN: Pen, Metal Barrel & Refills:

7510-01-446-4835

7510-01-446-4845

7510-01-446-4846

7510-01-446-4850

NPA: Industries for the Blind, Inc., Milwaukee, Wisconsin.

Contract Activity: Office Supplies & Paper Products Acquisition Center, New York, NY.

Product/NSN: Refill, Ballpoint Pen:

7510-00-754-2688

NPA: Industries for the Blind, Inc., Milwaukee, Wisconsin.

Contract Activity: Office Supplies & Paper Products Acquisition Center, New York, NY.

Sheryl D. Kennerly,
Director, Information Management.

[FR Doc. 03-4302 Filed 2-21-03; 8:45 am]

BILLING CODE 6353-01-P